DEPARTMENT OF AGRICULTURE

Submission for OMB Review; Comment Request

March 14, 2019.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 19, 2019 will be considered. Written comments should be addressed to: Desk Officer for Agriculture, Office of Information and Regulatory Affairs, Office of Management and Budget (OMB), New Executive Office Building, 725—17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Rural Business Cooperative Service

Title: Bio-refinery, Renewable Chemical, and Biobased Product Manufacturing Assistance Program.

OMB Control Number: 0570-0065.

Summary of Collection: The Biorefinery Assistance Program was authorized under Section 9003 of the 2008 Farm Bill. The program assists in the development, construction, and retrofitting of new and emerging technologies for the development of advanced biofuels by providing loan guarantees of up to $250 million. Section 9003 of the Agricultural Act of 2014 (2014 Farm Bill) modified previous provisions of the program, and the program was re-authorized under the 2018 Farm Bill.

Need and Use of the Information: The Agency will use various forms and written evidence to collect needed information to determine lender and borrower eligibility for loan guarantees, and to ensure the lender protects the government's financial interests. Lenders provide the Agency with quarterly construction progress reports demonstrating that engineering and financial criteria used in the review and approval of the application continue to be met during the construction phase of the project. Post-construction information will be collected demonstrating that the bio-refineries are operating and meeting all financial criteria projected during the application phase. If the information were not collected, the Agency would not be able to make prudent credit decisions nor monitor the lenders servicing activities.

Description of Respondents: Business or other for-profit.

Number of Respondents: 26.

Frequency of Responses: Recordkeeping; Reporting: On occasion; Monthly; Semi-annually; Annually.

Total Burden Hours: 7,803.

Kimble Brown,
Departmental Information Collection Clearance Officer.

[FR Doc. 2019-05189 Filed 3-19-19; 8:45 am]

BILLING CODE 3410-XY-P